SMALL BUSINESS ADMINISTRATION

[License No. 03/03-0285]

Tecum Capital Partners III, L.P.; Conflicts of Interest Exemption

Notice is hereby given that Tecum Capital Partners III, L.P., 8000 Brooktree Rd., Ste 310, Wexford, PA 15090, a Federal Licensee under the Small Business Investment Act of 1958, as amended (“the Act”), in connection with the financing of a small business concern, has sought an exemption under Section 312 of the Act and 13 CFR 107.730, Financings which Constitute Conflicts of Interest. Tecum Capital Partners III, L.P. is seeking a written exemption from the Small Business Administration (SBA) for a proposed financing to Primetac Corporation, 223- Gates Road, 3rd Floor, Little Ferry, NJ 07643.

The financing is brought within the purview of 13 CFR 107.730(a) because Primetac Corporation is an Associate of Tecum Capital Partners III, L.P. because Associate Tecum Capital Partners II, L.P. owns a greater than ten percent interest in Primetac Corporation, therefore this transaction is considered Financing which constitute conflicts of interest requiring SBA's prior written exemption.

Notice is hereby given that any interested person may submit written comments on this transaction within fifteen days of the date of this publication to the Associate Administrator, Office of Investment and Innovation, U.S. Small Business Administration, 409 Third Street SW, Washington, DC 20416.

Bailey G. DeVries,
Associate Administrator, Office of Investment and Innovation, United States Small Business Administration.

[FR Doc. 2022-22792 Filed 10-19-22; 8:45 am]

BILLING CODE P